NUCLEAR REGULATORY COMMISSION

[Docket Nos. 50-498 and 50-499]

STP Nuclear Operating Company, et al. South Texas Project, Units 1 and 2; Notice of Withdrawal of Application for Amendment to Facility Operating License

The U.S. Nuclear Regulatory Commission (the Commission) has granted the request of STP Nuclear Operating Company (the licensee) to withdraw its September 22, 2003 (ML032691397), application for proposed amendment to Facility Operating License No. NPF-76 and Facility Operating License No. NPF-80 for the South Texas Project, Units 1 and 2, respectively. The facility is located in Matagorda County, Texas.

The proposed amendment would have revised the Technical Specifications (TSs) to change the TS 3.3.2 requirements for Loss of Power Instrumentation (Functional Unit 8).

The Commission had previously issued a Notice of Consideration of Issuance of Amendment published in the Federal Register on November 12, 2003 (68 FR 64139). However, by letter dated September 30, 2004 (ML042800236), the licensee withdrew the proposed change.

For further details with respect to this action, see the application for amendment dated September 22, 2003, and the licensee's letter dated September 30, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 18th day of October 2004. For the Nuclear Regulatory Commission.
David H. Jaffe,
Senior Project Manager, Section 1, Project Directorate IV, Division of Licensing Project Management, Office of Nuclear Reactor Regulation.

[FR Doc. 04-24016 Filed 10-26-04; 8:45 am]

BILLING CODE 7590-01-P